DEPARTMENT OF TRANSPORTATION

Federal Aviation Administration

Noise Exposure Map Notice; Santa Fe Municipal Airport; Santa Fe, NM

AGENCY: Federal Aviation Administration, DOT.

ACTION: Notice.

SUMMARY: The Federal Aviation Administration (FAA) announces its determination that the noise exposure maps submitted by the City of Santa Fe for Santa Fe Municipal Airport under the provisions of 49 U.S.C. 47501 et seq. (Aviation Safety and Noise Abatement Act) and 14 CFR part 150 are in compliance with applicable requirements.

DATES: Effective Date: The effective date of the FAA's determination on the noise exposure maps is March 20, 2008.

FOR FURTHER INFORMATION CONTACT: Mr. Tim Tandy, Federal Aviation Administration, ASW-640, Fort Worth, TX 76193-0640 at (817) 222-5644.

SUPPLEMENTARY INFORMATION: This notice announces that the FAA finds that the noise exposure maps submitted for Santa Fe Municipal Airport are in compliance with applicable requirements of Part 150, effective March 20, 2008. Under 49 U.S.C. 47503 of the Aviation Safety and Noise Abatement Act (hereinafter referred to as “the Act”), an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport. An airport operator who has submitted noise exposure maps that are found by FAA to be in compliance with the requirements of Federal Aviation Regulations (FAR) Part 150, promulgated pursuant to the Act, may submit a noise compatibility program for FAA approval which sets forth the measures the operator has taken or proposes to take to reduce existing non-compatible uses and prevent the introduction of additional non-compatible uses.

The FAA has completed its review of the noise exposure maps and accompanying documentation submitted by the City of Santa Fe. The documentation that constitutes the “noise exposure maps” as defined in section 150.7 of Part 150 includes: Exhibit 1, 2006 Noise Exposure Map; Exhibit 2, 2011 Noise Exposure Map; Exhibit lA, Airside Facilities; Table 2A, Operations Summary; Table 2B, Operational Fleet Mix; Table 2C, Runway Use Percentages by Aircraft Type; Exhibit 2D, Existing and Future Consolidated Departure Flight Tracks; Exhibit 2E, Existing and Future Consolidated Arrival Flight Tracks; Exhibit 2F, Existing and Future Consolidated Touch-and-Go Flight Tracks; Table 2D, Comparative Areas of Noise Exposure; Exhibit 2G, 2006 Noise Exposure Contours; Exhibit 2H, 2011 Noise Exposure Contours; Exhibit 2J, Long Range Noise Exposure Contours; Exhibit 2K, Measured and Modeled Noise; Table 2E, Measurement Results Summary; Table 2F, Noise Measurement vs. Predicted DNL Values; Table 3A, Land Uses Exposed to 2006 Aircraft Noise; Table 3B, Population Exposed to 2006 Aircraft Noise; Exhibit 3C, 2006 Noise Exposure Contours with Land Use; Table 3C, Noise-Sensitive Land Uses Exposed to 2011 Aircraft Noise; Exhibit 3D, 2011 Noise Exposure Contours with Land Use; Table 3D, Population Exposed to 2011 Aircraft Noise; Table 3E, Noise-Sensitive Land Uses Exposed to Long Range Aircraft Noise; Exhibit 3E, Long Range Noise Exposure Contours with Land Use; Table 3F, Population Exposed to Long Range Aircraft Noise; and Table 3G, Summary of Significant Noise Impacts.

The FAA has determined that these noise exposure maps and accompanying documentation are in compliance with applicable requirements. This determination is effective on March 20, 2008.

FAA's determination on an airport operator's noise exposure maps is limited to a finding that the maps were developed in accordance with the procedures contained in appendix A of FAR Part 150. Such determination does not constitute approval of the applicant's data, information or plans, or a commitment to approve a noise compatibility program or to fund the implementation of that program. If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under Part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under section 150.21 of FAR Part 150, that the statutorily required consultation has been accomplished.

Copies of the full noise exposure map documentation and of the FAA's evaluation of the maps are available for examination at the following locations: Federal Aviation Administration, 2601 Meacham Boulevard, Fort Worth, TX; Mr. James H. Montman, Airport Manager, Santa Fe Municipal Airport, 200 Lincoln Avenue, P.O. Box 909, Santa Fe, NM 87504-0909. Questions may be directed to the individual named above under the heading FOR FURTHER INFORMATION CONTACT.

Issued in Fort Worth, Texas, March 20, 2008.
Joseph G. Washington,
Acting Manager, Airports Division.

[FR Doc. E8-6336 Filed 3-31-08; 8:45 am]

BILLING CODE 4910-13-M